DEPARTMENT OF HOMELAND SECURITY

Federal Emergency Management Agency

[Docket ID FEMA-2021-0002; Internal Agency Docket No. FEMA-B-2161]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado: Denver | City and County of Denver, (21-08-0769X) | The Honorable Michael B. Hancock, Mayor, City and County of Denver, 1437 Bannock Street, Room 350, Denver, CO 80202 | Department of Public Works, 201 West Colfax Avenue, Denver, CO 80202 | https://msc.fema.gov/portal/advanceSearch | Dec. 3, 2021 | 080046
Connecticut: Middlesex | Town of Clinton, (21-01-0179P) | Mr. Karl Kilduff, Manager, Town of Clinton, 54 East Main Street, Clinton, CT 06413 | Planning and Zoning Department, 54 East Main Street, Clinton, CT 06413 | https://msc.fema.gov/portal/advanceSearch | Nov. 12, 2021 | 090061
Florida:
Alachua | City of Gainesville, (21-04-1261P) | The Honorable Lauren Poe, Mayor, City of Gainesville, 200 East University Avenue, Gainesville, FL 32601 | City Hall, 200 East University Avenue, Gainesville, FL 32601 | https://msc.fema.gov/portal/advanceSearch | Dec. 1, 2021 | 125107
Alachua | Unincorporated areas of Alachua County, (21-04-1261P) | Ms. Michele L. Lieberman, Manager, Alachua County, 12 South East 1st Street, Gainesville, FL 32601 | Alachua County Public Works Department, 5620 Northwest 120th Lane, Gainesville, FL 32653 | https://msc.fema.gov/portal/advanceSearch | Dec. 1, 2021 | 120001
Bay | City of Panama City, (20-04-4646P) | Mr. Mark McQueen, Manager, City of Panama City, 501 Harrison Avenue, Panama City, FL 32401 | City Hall, 501 Harrison Avenue, Panama City, FL 32401 | https://msc.fema.gov/portal/advanceSearch | Nov. 10, 2021 | 120012
Bay | Unincorporated areas of Bay County, (20-04-4646P) | The Honorable Philip “Griff” Griffitts, Chairman, Bay County Board of Commissioners, 840 West 11th Street, Panama City, FL 32401 | Bay County Planning and Zoning Division, 840 West 11th Street, Panama City, FL 32401 | https://msc.fema.gov/portal/advanceSearch | Nov. 10, 2021 | 120004
Collier | City of Naples, (21-04-3345P) | The Honorable Teresa Heitmann, Mayor, City of Naples, 735 8th Street South, Naples, FL 34102 | Building Department, 295 Riverside Circle, Naples, FL 34102 | https://msc.fema.gov/portal/advanceSearch | Nov. 29, 2021 | 125130
Duval | City of Jacksonville, (21-04-0334P) | The Honorable Lenny Curry, Mayor, City of Jacksonville, 117 West Duval Street, Suite 400, Jacksonville, FL 32202 | Development Services Department, 214 North Hogan Street, Jacksonville, FL 32202 | https://msc.fema.gov/portal/advanceSearch | Nov. 17, 2021 | 120077
Hillsborough | Unincorporated areas of Hillsborough County, (21-04-0492P) | Ms. Bonnie Wise, Hillsborough County Administrator, 601 East Kennedy Boulevard, 26th Floor, Tampa, FL 33602 | Hillsborough Public Works Department, 601 East Kennedy Boulevard, 22nd Floor, Tampa, FL 33602 | https://msc.fema.gov/portal/advanceSearch | Dec. 2, 2021 | 120112
Lee | Town of Fort Myers Beach, (21-04-3079P) | The Honorable Ray Murphy, Mayor, Town of Fort Myers Beach, 2525 Estero Boulevard, Fort Myers Beach, FL 33931 | Community Development Department, 2525 Estero Boulevard, Fort Myers Beach, FL 33931 | https://msc.fema.gov/portal/advanceSearch | Nov. 10, 2021 | 120673
Polk | Unincorporated areas of Polk County, (21-04-3382P) | Mr. Bill Beasley, Polk County Manager, 330 West Church Street, Bartow, FL 33830 | Polk County Floodplain Department, 330 West Church Street, Bartow, FL 33830 | https://msc.fema.gov/portal/advanceSearch | Dec. 9, 2021 | 120261
Sarasota | Unincorporated areas of Sarasota County, (21-04-3524P) | The Honorable Alan Maio, Chairman, Sarasota County Board of Commissioners, 1660 Ringling Boulevard, Sarasota, FL 34236 | Sarasota County Planning and Development Services Department, 1001 Sarasota Center Boulevard, Sarasota, FL 34240 | https://msc.fema.gov/portal/advanceSearch | Nov. 24, 2021 | 125144
Seminole | City of Lake Mary, (21-04-1242P) | The Honorable David J. Mealor, Mayor, City of Lake Mary, 100 North Country Club Road, Lake Mary, FL 32746 | Public Works Department, 911 Wallace Court, Lake Mary, FL 32746 | https://msc.fema.gov/portal/advanceSearch | Nov. 22, 2021 | 120416
Maine: Aroostook | Town of Fort Kent, (21-01-0663P) | Ms. Suzie Paradis, Manager, Town of Fort Kent, 416 West Main Street, Fort Kent, ME 04743 | Town Hall, 416 West Main Street, Fort Kent, ME 04743 | https://msc.fema.gov/portal/advanceSearch | Nov. 26, 2021 | 230019
Maryland: Howard | Unincorporated areas of Howard County, (21-03-0871P) | The Honorable Calvin Ball, Howard County Executive, 3430 Court House Drive, Ellicott City, MD 21043 | Department of Public Works, Bureau of Environmental Services, 9801 Broken Land Parkway, Columbia, MD 21046 | https://msc.fema.gov/portal/advanceSearch | Nov. 19, 2021 | 240044
Massachusetts:
Bristol | Town of Dartmouth, (21-01-0847P) | Mr. Shawn MacInnes, Town of Dartmouth Administrator, 400 Slocum Road, Dartmouth, MA 02747 | Town Hall, 400 Slocum Road, Dartmouth, MA 02747 | https://msc.fema.gov/portal/advanceSearch | Dec. 2, 2021 | 250051
Middlesex | City of Waltham, (20-01-1644P) | The Honorable Jeannette A. McCarthy, Mayor, City of Waltham, 610 Main Street, 2nd Floor, Waltham, MA 02452 | City Hall, 610 Main Street, Waltham, MA 02452 | https://msc.fema.gov/portal/advanceSearch | Dec. 3, 2021 | 250222
Middlesex | Town of Belmont, (20-01-1644P) | The Honorable Adam Dash, Chairman, Town of Belmont Select Board, 455 Concord Avenue, 2nd Floor, Belmont, MA 02478 | Community Development Department, 19 Moore Street, Belmont, MA 02478 | https://msc.fema.gov/portal/advanceSearch | Dec. 3, 2021 | 250182
North Dakota:
Ransom | City of Lisbon, (20-08-0874P) | The Honorable Tim Meyer, Mayor, City of Lisbon, P.O. Box 1079, Lisbon, ND 58054 | City Hall, 423 Main Street, Lisbon, ND 58054 | https://msc.fema.gov/portal/advanceSearch | Nov. 16, 2021 | 380091
Ransom | Unincorporated areas of Ransom County, (20-08-0874P) | The Honorable Norm Hansen, Chairman, Ransom County Board of Commissioners, P.O. Box 668, Lisbon, ND 58054 | Ransom County Courthouse, 204 5th Avenue West, Lisbon, ND 58054 | https://msc.fema.gov/portal/advanceSearch | Nov. 16, 2021 | 380089
Pennsylvania:
Columbia | Town of Bloomsburg, (21-03-0940P) | The Honorable William Kreisher, Mayor, Town of Bloomsburg, 301 East 2nd Street, Bloomsburg, PA 17815 | Town Hall, 301 East 2nd Street, Bloomsburg, PA 17815 | https://msc.fema.gov/portal/advanceSearch | Nov. 24, 2021 | 420339
Columbia | Township of Catawissa, (21-03-0940P) | The Honorable James Kitchen, Chairman, Township of Catawissa Board of Supervisors, 153 Old Reading Road, Catawissa, PA 17820 | Township Hall, 153 Old Reading Road, Catawissa, PA 17820 | https://msc.fema.gov/portal/advanceSearch | Nov. 24, 2021 | 420342
Cumberland | Borough of Mechanicsburg (21-03-0690P) | The Honorable Jack Ritter, Mayor, Borough of Mechanicsburg, 36 West Allen Street, Mechanicsburg, PA 17055 | Borough Hall, 36 West Allen Street, Mechanicsburg, PA 17055 | https://msc.fema.gov/portal/advanceSearch | Dec. 3, 2021 | 420362
Cumberland | Township of Upper Allen (21-03-0690P) | The Honorable Kenneth M. Martin, President, Township of Upper Allen Board of Commissioners, 100 Gettysburg Pike, Mechanicsburg, PA 17055 | Township Hall, 100 Gettysburg Pike, Mechanicsburg, PA 17055 | https://msc.fema.gov/portal/advanceSearch | Dec. 3, 2021 | 420372
Texas:
Angelina | City of Lufkin, (20-06-3596P) | The Honorable Mark Hicks, Mayor, City of Lufkin, 300 East Shepherd Avenue, Lufkin, TX 75901 | Engineering Services Department, 300 East Shepherd Avenue, Lufkin, TX 75901 | https://msc.fema.gov/portal/advanceSearch | Dec. 9, 2021 | 480009
Brazoria and Harris | City of Pearland (19-06-2864P) | The Honorable Tom Reid, Mayor, City of Pearland, 3519 Liberty Drive, Pearland, TX 77581 | City Hall, 3519 Liberty Drive, Pearland, TX 77581 | https://msc.fema.gov/portal/advanceSearch | Nov. 22, 2021 | 480077
Denton | City of Lewisville, (21-06-1150P) | The Honorable T.J. Gilmore, Mayor, City of Lewisville, P.O. Box 299002, Lewisville, TX 75029 | Engineering Department, 151 West Church Street, Lewisville, TX 75057 | https://msc.fema.gov/portal/advanceSearch | Dec. 13, 2021 | 480195
Harris | City of Houston (19-06-2864P) | The Honorable Sylvester Turner, Mayor, City of Houston, P.O. Box 1562, Houston, TX 77251 | Floodplain Management Department, 1002 Washington Avenue, Houston, TX 77002 | https://msc.fema.gov/portal/advanceSearch | Nov. 22, 2021 | 480296
Harris | Unincorporated areas of Harris County, (19-06-2864P) | The Honorable Lina Hidalgo, Harris County Judge, 1001 Preston Street, Suite 911, Houston, TX 77002 | Harris County Permit Office, 10555 Northwest Freeway, Suite 120, Houston, TX 77092 | https://msc.fema.gov/portal/advanceSearch | Nov. 22, 2021 | 480287
Harris | Unincorporated areas of Harris County, (20-06-0474P) | The Honorable Lina Hidalgo, Harris County Judge, 1001 Preston Street, Suite 911, Houston, TX 77002 | Harris County Permit Office, 10555 Northwest Freeway, Suite 120, Houston, TX 77002 | https://msc.fema.gov/portal/advanceSearch | Nov. 22, 2021 | 480287

[FR Doc. 2021-18545 Filed 8-26-21; 8:45 am]

BILLING CODE 9110-12-P